ENVIRONMENTAL PROTECTION AGENCY

[FRL-7541-1]

Science Advisory Board Staff Office; Clean Air Scientific Advisory Committee (CASAC); Notification of Advisory Committee Meeting of the CASAC Particulate Matter Review Panel

AGENCY: Environmental Protection Agency (EPA).

ACTION: Notice.

SUMMARY: The Environmental Protection Agency Science Advisory Board (SAB) Staff Office, announces a public meeting of the Clean Air Scientific Advisory Committee's (CASAC) Particulate Matter (PM) Review Panel to review the EPA Air Quality Criteria for Particulate Matter (Fourth External Review Draft).

DATES: The meeting will be held August 25 and 26, 2003, from 8:30 a.m. to 5:30 p.m. (eastern time) on both days.

ADDRESSES: The meeting will take place at the EPA campus, Building C, in EPA's Main Auditorium (Room C111), 109 Alexander Drive, Research Triangle Park (RTP), North Carolina. A publicly-accessible teleconference line will be available for the entire meeting.

FOR FURTHER INFORMATION CONTACT: Members of the public who wish to obtain the teleconference call-in numbers and access codes should contact Ms. Delores Darden, EPA Science Advisory Board Staff, at telephone/voice mail: (202) 564-2282, or e-mail: darden.delores@epa.gov.

Any member of the public who wants further information concerning this meeting, or who wishes to submit written or brief oral comments (5 minutes or less) must contact Mr. Fred Butterfield, Designated Federal Officer, EPA Science Advisory Board (1400A), U.S. Environmental Protection Agency, 1200 Pennsylvania Avenue, NW., Washington, DC 20460; telephone/voice mail: (202) 564-4561; fax: (202) 501-0582; or e-mail: butterfield.fred@epa.gov. Requests to provide oral comments must be in writing (e-mail, fax or mail) and received by Mr. Butterfield no later than noon eastern time five business days prior to the meeting in order to reserve time on the meeting agenda. Written comments (preferably via e-mail) should be sent to Mr. Butterfield by the same deadline so that the comments can be provided to the CASAC PM Review Panel prior to the meeting. See additional instructions in the section below entitled, “Providing Oral or Written Comments at SAB Meetings.” General information concerning the CASAC or the EPA Science Advisory Board can be found on the EPA Web site at: http://www.epa.gov/sab.

SUPPLEMENTARY INFORMATION:

Summary: The Clean Air Scientific Advisory Committee, which comprises seven members appointed by the EPA Administrator, was established under section 109(d)(2) of the Clean Air Act (42 U.S.C. 7409) as an independent scientific advisory committee, in part to provide advice, information and recommendations on the scientific and technical aspects of issues related to air quality criteria and national ambient air quality standards (NAAQS) under sections 108 and 109 of the Act. The CASAC is a Federal advisory committee chartered under the Federal Advisory Committee Act (FACA), as amended, 5 U.S.C., App. The CASAC PM Review Panel will comply with the provisions of FACA and all appropriate SAB Staff Office procedural policies.

The PM Review Panel is charged with conducting a peer review of the EPA Air Quality Criteria for Particulate Matter (Fourth External Review Draft). This is a continuation of the Panel's review of the Third External Review Draft of this document (67 FR 41723, June 19, 2002). The CASAC PM Review Panel's report, comments and recommendations from this review, dated September 30, 2002, can be found on the SAB Web site at: http://www.epa.gov/sab/pdf/casacl02003.pdf.

Background: EPA is in the process of updating, and revising where appropriate, the Air Quality Criteria Document (AQCD) for PM as issued in 1996. Section 109(d)(1) of the Clean Air Act (CAA) requires that EPA carry out a periodic review and revision, where appropriate, of the air quality criteria and the National Ambient Air Quality Standards (NAAQS) for “criteria” air pollutants such as PM. On June 30, 2003, the National Center for Environmental Assessment (NCEA), within EPA's Office of Research and Development, made available for public review and comment a Fourth External Review Draft of a revised document, EPA Air Quality Criteria for Particulate Matter. Under CAA sections 108 and 109, the purpose of the revised document is to provide an assessment of the latest scientific information on the effects of airborne PM on the public health and welfare, for use in EPA's current review of the NAAQS for PM. Detailed summary information on the history of the current draft AQCD for PM is contained in a previous EPA Federal Register notice (68 FR 36985, June 20, 2003). The EPA Air Quality Criteria for Particulate Matter (Fourth External Review Draft) can be viewed and downloaded from the NCEA Web site at: http://www.epa.gov/ncea. Any questions concerning the draft document should be directed to Dr. Robert Elias, NCEA-RTP, at telephone: (919) 541-1818; or e-mail: elias.robert@epa.gov.

Availability of Additional Meeting Materials: Copies of the draft agendas for the meetings that are described in this notice will be posted on the SAB Web site at: http://www.epa.gov/sab (under the “Agendas” subheading) in advance of the CASAC PM Review Panel meeting. Other materials that may be available will also be posted on the SAB Web site during this time-frame.

Providing Oral or Written Comments at SAB Meetings: It is the policy of the EPA Science Advisory Board Staff Office to accept written public comments of any length, and to accommodate oral public comments whenever possible. The EPA Science Advisory Board Staff Office expects that public statements presented at its meetings will not be repetitive of previously-submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB Staff Office accepts written comments until the date of the meeting (unless otherwise stated), written comments should be received in the SAB Staff Office at least one week prior to the meeting date so that the comments may be made available to the committee for their consideration. Comments should be supplied to Mr. Butterfield at the address/contact information noted above in the following formats: one hard copy with original signature, and one electronic copy via e-mail (acceptable file format: Adobe Acrobat, WordPerfect, Word, or Rich Text files (in IBM-PC/Windows 95/98 format)). Those providing written comments and who attend the meeting are also asked to bring 35 copies of their comments for public distribution.

Meeting Access: Individuals requiring special accommodation at this meeting, including wheelchair access to the conference room, should contact Mr. Butterfield at the phone number or e-mail address noted above at least five business days prior to the meeting so that appropriate arrangements can be made.

Dated: July 31, 2003.
Vanessa T. Vu,
Director, EPA Science Advisory Board Staff Office.

[FR Doc. 03-20163 Filed 8-6-03; 8:45 am]

BILLING CODE 6560-50-P